DEPARTMENT OF TRANSPORTATION

Federal Aviation Administration

Improvement of Publication of Helicopter Air Ambulance (HAA) Operations

AGENCY: Federal Aviation Administration (FAA), Department of Transportation.

ACTION: Notice of availability.

The Federal Aviation Administration (FAA) is announcing the availability of Helicopter Air Ambulance Operations data. The Helicopter Air Ambulance Operations data has been posted in accordance with 49 U.S.C. 44731, as amended.

DATES: The most recently posted Helicopter Air Ambulance Operations data is for 2023. The FAA will continue to collect, analyze, and make available the HAA data in accordance with 49 U.S.C. 44731(d)(2).

ADDRESSES: How to obtain copies: A copy of this publication may be downloaded from: https://www.faa.gov/about/office_org/headquarters_offices/avs/offices/afx/afs/afs200.

FOR FURTHER INFORMATION CONTACT: Nolan Crawford, 202-267-8166, Flight Standards Service, AFS-220, Federal Aviation Administration, 800 Independence Avenue SW, Washington, DC 20591, 9-AFS-200-Correspondence@faa.gov.

Issued in Washington, DC, on October 31, 2024.
James Nolan Crawford,
Air Transportation Division, 135 Flight Operation Section, Aviation Safety Inspector.

[FR Doc. 2024-25707 Filed 11-6-24; 8:45 am]

BILLING CODE P